DEPARTMENT OF TRANSPORTATION

National Highway Traffic Safety Administration

Discretionary Cooperative Agreement To Advance Occupant Protection Technology in Passenger Vehicles

AGENCY: National Highway Traffic Safety Administration, DOT.

ACTION: Announcement of Discretionary Cooperative Agreement to Advance Occupant Protection Technology in Passenger Vehicles.

SUMMARY: The National Highway Traffic Safety Administration (NHTSA) announces a discretionary cooperative agreement to advance occupant protection technology in passenger vehicles. NHTSA solicits applications from for-profit organizations (small or large), non-profit organization and educational institutions. One of NHTSA's objectives is to develop and evaluate new technologies and methodologies, which have the potential for improving the crashworthiness of passenger vehicles and protecting their occupants. NHTSA seeks to establish a collaborative research effort with a qualified research organization to meet the above objective.

DATES: Applications must be received at the office designated below by 3 p.m. on or before September 16, 2002.

ADDRESSES: Applications must be submitted to the National Highway Traffic Safety Administration, Office of Contracts and Procurement (NAD-30), ATTN.: Henrietta R. Mosley, 400 Seventh Street SW., Room 5301, Washington, DC 20590. All applications submitted must include a reference to NHTSA Cooperative Agreement Number DTNH22-R-01-2-07292.

FOR FURTHER INFORMATION CONTACT: General administrative questions may be directed to Henrietta R. Mosley, Office of Contracts and Procurement. All questions and requests for copies may be directed by e-mail at hmosley@nhtsa.dot.gov or by telephone at (202) 366-9570. Programmatic questions should be directed to Mr. Ron Pack, Crashworthiness Research, NHTSA, Room 6226 (NRD-11), 400 Seventh Street SW., Washington, DC 20590, (202) 366-4697. Interested applicants are advised that no separate application package exists beyond the contents of this announcement.

SUPPLEMENTARY INFORMATION:

Statement of Work

Background

Each year in the United States, more than 40,000 deaths and millions of injuries occur as the direct result of motor vehicle traffic crashes. As part of its mission to alleviate this toll, the National Highway Traffic Safety Administration vigorously conducts an extensive research program to develop and evaluate new technologies and methodologies, which have the potential for improving the crashworthiness of passenger vehicles and protecting their occupants. NHTSA is conducting crashworthiness research to develop new or enhanced injury countermeasures.

Objective and Purpose

The proposed cooperative research agreement program seeks to establish collaborative research efforts between NHTSA and a qualified research organization to study advanced methodologies for occupant protection in passenger vehicle crashes. The collaboration will include problem definition, sharing of scientific and technical data, joint research and the development of new methodologies and technologies for occupant crash protection. Research areas could include, but are not limited to, the following:

—Advanced frontal occupant restraints.

—Advanced air bag inflator and/or air bag inflation methodologies.

—Adaptive air bag systems to tailor bag deployment over the expected range of crash severities, occupant sizes, occupant ages, occupant positioning, etc.

—Advanced occupant seating systems.

—Ejection mitigation technologies.

—Intrusion resistance countermeasures.

—Coupling of air bag inflation with anticipatory crash sensing technologies.

—Improved vehicle crash sensing methodologies.

—Integration of the above in production/near production vehicles to show feasibility and evaluate performance.

The above list of potential programs constitutes only a sampling of the potential research areas. Applicants are also encouraged to suggest other areas that are believed to provide the potential for practical improvement over current occupant crash protection and are most amenable to the special skills and experience of the applicant.

The program shall include a maximum of three phases including the following: (1) Preliminary studies identifying the system performance improvement desired, an estimate of additional production costs related to the improvement, the benefits to be appreciated from such improvement, and the approximate magnitude of national injuries and fatalities now occurring due to the absence of the improvement. (2) Prototype development and establishment of reliable production costs. (3) Prototype demonstration. The duration of each phase will vary according to current state-of-the-art, and in some instances, may be overlapped.

NHTSA Involvement

NHTSA will be involved in all activities undertaken as part of the cooperative agreement program and will:

1. Provide one professional staff person to be designated as the Contracting Officer's Technical Representative (COTR), to participate in the planning and management of the cooperative agreement and coordinate activities between the cooperative agreement participant organization and the NHTSA.

2. Make available information and technical assistance from government sources, within available resources and as determined appropriate by the COTR.

3. Provide liaison with other government agencies and organizations, as appropriate.

4. Stimulate the exchange of ideas, problems, and solutions among cooperative agreement recipients who agree to such sharing, and if appropriate, NHTSA contractors and other interested parties; and

5. Share nonproprietary information developed at Government expense with the scientific and industrial community.

Number of Cooperative Agreements, Award Amounts and Period of Support

Depending on the merits of the applications received, NHTSA anticipates awarding multiple cooperative agreements for a base period of twelve (12) months with three (3) one (1) year option periods. Offerors should clearly identify the timeline for their proposed effort. It is anticipated that individual award amounts shall range from $25,000 to $150,00 (not to exceed $150,000) per twelve (12) month period. Upon completion of the base period, NHTSA may choose to extend the period of performance under this agreement for the three (3) additional twelve (12) month periods, subject to availability of funds and satisfactory progress. Funds allocated for these cooperative agreements are not intended to cover all of the costs that will be incurred in completing the project. Applicants should demonstrate a commitment of financial or in-kind resources to support the proposed project.

Eligibility Requirements

In order to be eligible to participate in this cooperative agreement program, an applicant must be a for-profit organization (small or large), a non-profit organization, or an educational institution. Consortiums of organizations from any of the above categories may apply. Regardless of the type of organization applying for Federal assistance, no fee or profit will be allowed.

Application Procedure

Each applicant must submit one original and three copies of its application package to: DOT/National Highway Traffic Safety Administration, Office of Contracts and Procurement (NAD-30), ATTN: Henrietta R. Mosley, 400 Seventh Street, SW., Room 5301, Washington, DC 20590. An additional three copies will facilitate the review process, but are not required. Applications are due no later than 30 days after the appearance of the announcement in the Federal Register. The applicant shall specifically identify any information in the application, which is to be treated as proprietary, in accordance with the procedures of 49 CFR 512, Confidential Business Information. Applications must include a reference to NHTSA Cooperative Agreement Number DTNH22-02-R-07292. The proposal shall not exceed 35 pages, not including budget proposal, letters of endorsement or support, and resumes. Only complete application packages received on or before 4 p.m. on September 16, 2002 will be considered.

Application Contents

1. The application package must be submitted with OMB Standard Form 424 (REV. 7-97), including 424A and 424B), Application for Federal Assistance, with the required information filled in and assurances signed (SF 424B). The OMB Standard Forms SF-424, SF-424A, and SF424B may be downloaded directly from the OMB Internet Web site: http://www.whitehouse.gov/OMB/grants/index.html. While the Form 424-A deals with budget information, and Section B identifies Budget Categories, the available space does not permit a level of detail, which is sufficient to provide for a meaningful evaluation of the proposed costs. A supplemental sheet should be provided which presents a detailed breakdown of the proposed costs (direct labor, including labor categories, level of effort and rate; direct material, including itemized equipment; travel and transportation, including projected trips and number of people traveling; subcontracts with similar cost detail, if known; and overhead costs) as well as any costs which the applicant proposes to contribute in support of this effort. The budget should detail costs for each year of the proposed project. Applicants shall assume that awards will be made by September 30, 2002 and shall prepare their applications accordingly.

2. The application shall include a program narrative statement, which addresses the following:

a. A description of the research to be pursued which addresses:

a. The objectives, goals, and anticipated outcomes of the proposed research effort;

b. The method or methods that will be used;

c. The source of crash and injury statistics to be used;

d. The vehicle occupant protection population and crash modes to be addressed;

b. Organizational plan detailing a plan of action on how the proposed work will be accomplished. The plan should include a time line of projected activities and milestones. The proposed program director and other key personnel should be identified, including a description of their qualifications and their organizational responsibilities.

c. A description of the facilities and equipment currently available or to be obtained for use in the conduct of the proposed research and development effort.

d. A description of the applicant's previous experience or on-going research program that is related to this proposed research effort.

e. A detailed schedule and budget for the proposed research effort, including any cost-sharing contribution proposed by the applicant as well as any additional financial commitments made by other sources.

f. A statement of any technical assistance, which the applicant may require of NHTSA in order to successfully complete the proposed program.

Application Review Process and Evaluation Criteria

Initially, all applications will be screened to ensure that they meet the eligibility requirements and to ensure that applications contain all information required by the Application Contents Section of this Notice. An Evaluation committee will then evaluate each complete application from an eligible recipient. The applications will be evaluated using the following criteria:

1. Understanding the Problem (30%). The applicant's understanding of the purpose and unique problems represented by the research objectives of this cooperative agreement program as evidenced in the description of their proposed research and development effort. Specific attention shall be placed upon the applicant's stated proposed development and demonstration effort.

2. Technical Merit (30%). The potential of the proposed research effort accomplishments to make a timely and an innovative and/or significant contribution to occupant protection technology knowledge as it may be applied to saving lives and reducing injuries resulting from motor vehicle crashes. The technical merit of the proposed research effort will include the feasibility of the approach, practicability, planned methodology, and anticipated results.

3. Financial Merit (20%). Financial merit will be estimated by the cost of the cooperative agreement to be borne by NHTSA and the in-kind contribution provided by the applicant as compared to the anticipated benefits to vehicle crash occupants.

4. Facilities and Equipment (10%). The adequacy of facilities and equipment identified to accomplish the proposed research.

5. Program Staff (10%). The adequacy of the organizational plan for accomplishing the proposed research effort, including the qualifications and experience of the research team, the various disciplines represented, and the relative level of effort proposed for professional, technical, and support staff.

Terms and Conditions of the Award

1. Prior to award, the recipient must comply with the certification requirements of 49 CFR part 29—Department of Transportation Government-wide Debarment and Suspension (Nonprocurement) and Government-wide Requirements for Drug-Free Workplace (Grants). The protection of the rights and welfare of human subjects in NHTSA-sponsored experiments is governed by 49 CFR part 11. Any recipient proposing the use of human subjects must satisfy the requirements of 49 CFR part 11 prior to award of the cooperative agreement. The cooperative agreements will include the provisions of Federal Acquisition Regulation (FAR) part 52 contract clause 52.227-11 Patent Rights Retention by the Contractor (short form).

2. Reporting Requirements

a. Written Research Reports

The recipient shall submit research reports every two months suitable for public dissemination which shall be due 15 days after the reporting period, and a final research report within 45 days after completion of the research effort. An original and three copies of each of these research reports shall be submitted to the COTR.

b. Oral Briefings

The recipient shall conduct semiannual oral presentations of research results for the COTR and other interested NHTSA personnel. These presentations will be conducted at the NHTSA Office of Vehicle Safety Research, Washington DC. An original and three copies shall be submitted to the COTR.

c. Data Reports

Dynamic and other data measured in research, development, and prototype evaluation and demonstration tests will be provided by the recipient within 3 weeks after the data is obtained, in the format of a data package as described below. The recipient may be relieved of the data package report requirement for certain activities by agreement from the COTR.

A data package consists of high speed film, paper test report, and magnetic tape complying with NHTSA Data Tape Reference Guide. The NHTSA's Crashworthiness Division maintains a Vehicle Crash Test and a Component Data Base, which it provides upon request to the public, including educational institutions and other research organizations.

To facilitate the input of data as well as the exchange of information, the recipient must provide the magnetic tape in the format specified in the “NHTSA Data Tape Reference Guide”. A copy of this document may be obtained from the programmatic information contact or on the NHTSA Web site: http://www.nhtsa.dot.gov.

3. During the effective performance period of the Cooperative Agreements awarded as a result of this announcement, the agreements shall be subject to NHTSA's General Provisions for Assistance Agreements; the cost principles of OMB Circular A-21, A-122, or FAR 31.2, as applicable to the recipient, and the requirements of 49 CFR part 29. Each agreement with a non-profit organization or an educational institution shall also be subject to the general administrative requirements of 49 CFR part 19.

An electronic copy of this document may be downloaded by accessing the Federal Register home page at http://www.nara.gov/nara/fedreg and the Government Printing Office database at http://www.acess.gpo.gov/su_docs.

Issued on: August 9, 2002.
Joseph N. Kanianthra,
Director of Office of Vehicle Safety Research.

[FR Doc. 02-20882 Filed 8-15-02; 8:45 am]

BILLING CODE 4910-59-P